GENERAL SERVICES ADMINISTRATION

Multiple Award Schedule Advisory Panel; Notification of Public Advisory Panel Meetings

AGENCY: U.S. General Services Administration (GSA).

ACTION: Notice.

SUMMARY: The U.S. General Services Administration (GSA) Multiple Award Schedule Advisory Panel (MAS Panel), a Federal Advisory Committee, will hold public meetings on the following dates: Friday, September 19, 2008; Monday, September 22, 2008; Monday, October 6, 2008; and Monday, October 27, 2008. GSA utilizes the MAS program to establish long-term Governmentwide contracts with responsible firms to provide Federal, State, and local government customers with access to a wide variety of commercial supplies (products) and services.

The MAS Panel was established to develop advice and recommendations on MAS program pricing policies, provisions, and procedures in the context of current commercial pricing practices. For the next 3 to 4 meetings, the Panel plans to focus on developing recommendations for MAS program pricing provisions for the acquisition of (1) professional services; (2) products; (3) total solutions which consist of professional services and products; and (4) non professional services. In developing the recommendations, the Panel will, at a minimum, address these 5 questions for each of the 4 types of acquisitions envisioned above: (1) Where does competition take place?; (2) If competition takes place primarily at the task/delivery order level, does a fair and reasonable price determination at the MAS contract level really matter?; (3) If the Panel consensus is that competition is at the task order level, are the methods that GSA uses to determine fair and reasonable prices and maintain the price/discount relationship with the basis of award customer(s) adequate?; (4) If the current policy is not adequate, what are the recommendations to improve the policy/guidance; and (5) If fair and reasonable price determination at the MAS contract level is not beneficial and the fair and reasonable price determination is to be determined only at the task/delivery order level, then what is the GSA role?

To that end, the Panel would like to hear from the many stakeholders of the MAS program. The MAS program stakeholders include, but not limited to, ordering agency contracting officers, GSA contracting officers, schedule contract holders, Congress, program managers, General Accountability Office, and federal agency Inspector General Offices. The panel is particularly interested in stakeholder views as to how the issues discussed above may relate differently to the purchase of goods, services, or goods and services that are configured to propose an integrated solution to an agency's needs. September 19, 2008, is the last date that the Panel will entertain oral comments. Written comments may be submitted at any time in accordance with the guidance below.

I. Acquisition of Services and Solutions Discussion and Recommendations

Discussions will take place on Friday, September 19, 2008, and Monday, September 22, 2008. The meetings will be held at the American Institute of Architects (AIA) Building, 2nd Floor, 1725 New York Avenue, NW, Washington, DC. The building is located at the corner of 18th Street and New York Avenue, NW. Entrance to the building is on either 18th Street, or New York Avenue. The AIA is within walking distance of the Farragut North and Farragut West metro stops. The meeting start time for each day is 8:00 a.m., and it will adjourn no later than 5:00 p.m.

II. Acquisition of Products Discussion and Recommendations

Discussions will take place on Monday, October 6, 2008, and Monday, October 20, 2008.

Monday, October 6, 2008, Location & Address: The meeting will be held at the Jury's Washington Hotel, 1500 New Hampshire Avenue, NW, Washington, DC. The hotel is within walking distance from the Dupont Circle metro stop. The meeting start time is 9:00 a.m., and it will adjourn no later than 5:00 p.m.

Monday, October 27, 2008, Location and Address: The meeting will be held at the American Institute of Architects (AIA) Building, 2nd Floor, 1725 New York Avenue, NW., Washington, DC. The building is located at the corner of 18th Street and New York Avenue, NW. Entrance to the building is on either 18th Street or New York Avenue. The AIA is within walking distance of the Farragut North and Farragut West metro stops. The meeting start time is 9:00 a.m., and it will adjourn no later than 5:00 p.m.

For presentations before the Panel, the following guidance is provided:

Oral comments: September 19, 2008 is the last meeting date for oral comments. Requests to present oral comments at this meeting must be in writing (e-mail or fax) and received by the Designated Federal Official, Pat Brooks, at the below address ten (10) business days prior to the meeting date. Each individual or group requesting an oral presentation will be limited to a total time of five minutes. Speakers should bring at least 50 copies of their comments for distribution to the reviewers and public at the meeting.

Written Comments: Written comments must be received ten (10) business days prior to the meeting date so that the comments may be provided to the Panel for their consideration prior to the meeting. Comments should be supplied to Ms. Brooks at the address/contact information noted below in the following format: one hard copy with original signature and one electronic copy via email in Microsoft Word.

Subsequent meeting dates, locations, and times will be published at least 15 days prior to the meeting date.

FOR FURTHER INFORMATION CONTACT: Information on the Panel meetings, agendas, and other information can be obtained at www.gsa.gov/masadvisorypanel or you may contact Ms. Pat Brooks, Designated Federal Officer, Multiple Award Schedule Advisory Panel, U.S. General Services Administration, 2011 Crystal Drive, Suite 911, Arlington, VA 22205; telephone 703 605-3406, Fax 703 605-3454; or via e-mail at mas.advisorypanel@gsa.gov.

AVAILABILITY OF MATERIALS:

All meeting materials, including meeting agendas, handouts, public comments, and meeting minutes will be posted on the MAS Panel website at www.gsa.gov/masadvisorypanel or www.gsa.gov/masap.

MEETING ACCESS:

Individuals requiring special accommodations at any of these meetings should contact Ms. Brooks at least ten (10) business days prior to the meeting date so that appropriate arrangements can be made.

Dated: August 21, 2008.
David A. Drabkin,
Deputy Chief Acquisition Officer, Office of the Chief Acquisition Officer, General Services Administration.

[FR Doc. E8-19772 Filed 8-25-08; 8:45 am]

BILLING CODE 6820-EP-S